DEPARTMENT OF THE INTERIOR

Fish and Wildlife Service

Notice of Availability of a Draft Recovery Plan for the Rough Popcorn Flower (Plagiobothrys hirtus) for Review and Comment

AGENCY: Fish and Wildlife Service, Interior.

ACTION: Notice of document availability.

SUMMARY: We, the U.S. Fish and Wildlife Service, announce the availability for public review of a draft recovery plan for the rough popcorn flower (Plagiobothrys hirtus). The draft recovery plan includes specific recovery criteria and measures to be taken in order to delist the rough popcorn flower. We solicit review and comment from local, State, and Federal agencies, and the public on this draft recovery plan.

DATES: Comments on the draft recovery plan must be received on or before March 31, 2003 to receive our consideration.

ADDRESSES: Copies of the draft recovery plan are available for inspection, by appointment, during normal business hours at the following location: Roseburg Field Office, 2900 NW. Stewart Parkway, Roseburg, Oregon 97470 (phone: 541-957-3474). Requests for copies of the draft recovery plan, and written comments and materials regarding this plan should be addressed to Craig Tuss, Field Supervisor, at the above address.

FOR FURTHER INFORMATION CONTACT: Craig Tuss, Field Supervisor, at the above address.

SUPPLEMENTARY INFORMATION:

Background

Recovery of endangered or threatened animals and plants is a primary goal of our endangered species program and the Endangered Species Act (Act) (16 U.S.C. 1531 et seq.). A species is considered recovered when the species' ecosystem is restored and/or threats to the species are removed so that self-sustaining and self-regulating populations of the species can be supported as persistent members of native biotic communities. Recovery plans describe actions considered necessary for conservation of the species, establish recovery criteria for downlisting or delisting species, and estimate time and cost for implementing the measures needed for recovery.

The Act, requires the development of recovery plans for listed species unless such a plan would not promote the conservation of a particular species. Section 4(f) of the Act requires that public notice and an opportunity for public review and comment be provided during recovery plan development. We will consider all information presented during a public comment period prior to approval of this recovery plan. Substantive technical comments may result in changes to the plan. Substantive comments regarding recovery plan implementation will be forwarded to appropriate Federal or other entities for consideration during the implementation of recovery actions.

The rough popcorn flower was listed as endangered on January 25, 2000 and is found only in the Umpqua River drainage in Douglas County, Oregon, at sites ranging from 102 to 232 meters (m) (330 to 750 feet) in elevation. Extant, naturally occurring populations of this species occur along the Sutherlin Creek drainage from Sutherlin to Wilbur, adjacent to Calapooya Creek west of Sutherlin, and in roadside ditches near Yoncalla Creek just north of Rice Hill. The northern site is near Yoncalla, and the southern at Wilbur. All known sites were east of Interstate Highway 5 (I-5), until 1998 when a site was discovered at the junction of Stearns Lane and Highway 138, 0.8.kilometers 0.5 miles west of I-5. The eastern site is east of Plat K Road outside of Sutherlin. Historic collections have been made farther east near Nonpareil, but recent surveys (1998 to 1999) did not locate any populations in that area.

The rough popcorn flower is a perennial herbaceous plant, but can be annual depending on environmental conditions. The species occurs in seasonal wetlands. The majority of sites occur on the Conser-type soil series which is characterized as poorly drained flood plain soils. Urban and agriculture development, invasion of non-native species, habitat fragmentation and degradation, and other human-caused disturbances have resulted in substantial losses of seasonal wetland habitat throughout the species' historic range. Conservation measures include establishing a network of protected populations in natural habitat distributed throughout its native range.

The draft recovery plan identifies three recovery zones. The recovery zones are geographically bounded areas containing extant rough popcorn flower populations that are the focus of recovery actions or tasks. The recovery zones include lands both essential and non-essential to the long-term conservation of the rough popcorn flower.

The overall objective of this draft recovery plan is to reduce the threats to the rough popcorn flower to the point it can be reclassified to threatened, with the ultimate goal of being removed from protection entirely. Under the draft recovery plan downlisting of the rough popcorn flower would be contingent upon the following criteria: (1) At least 9 reserves, containing a minimum of 5,000 plants each, are protected and managed to assure their long term survival; (2) a minimum of 1,000 m² are occupied by the rough popcorn flower within each reserve, with at least 100 m² having a density of 100 plants/m² or greater; (3) a minimum of 9 reserves are distributed among the 3 recovery zones (Calapooya Creek, Sutherlin Creek, and Yoncalla Creek), with at least 3 reserves present in each zone; (4) patches within each reserve are within 1 kilometers (2½ miles) of each other to allow pollinator movement and gene flow among them; (5) averages of 5 years of demographic data that indicates populations in at least 7 of the 9 reserves within the 3 recovery zones have average population numbers that are stable or increasing, without decreasing trends lasting more than 2 years; (6) 75 percent or more of the plants are reproductive each year, with evidence of seed maturation and dispersal in all populations; (7) seed germination and seedling recruitment are occurring in all populations; and (8) each existing or reintroduced population is secure from the threats identified in the Reasons for Listing section.

Authority: The authority for this action is section 4(f) of the Endangered Species Act, 16 U.S.C. 1533(f).

Dated: November 5, 2002.
Rowan W. Gould,
Regional Director, Region 1, U.S. Fish and Wildlife Service.

[FR Doc. 03-1826 Filed 1-27-03; 8:45 am]

BILLING CODE 4310-55-P